DEPARTMENT OF HEALTH AND HUMAN SERVICES

Office of the National Coordinator for Health Information Technology; Announcement of Requirements and Registration for Beat Down Blood Pressure Challenge

Authority: 15 U.S.C. 3719.

AGENCY: ONC, HHS.

Award Approving Official: Lygeia Ricciardi, Acting Director, Office of Consumer eHealth.

ACTION: Notice

SUMMARY: The Office of the National Coordinator for Health Information Technology (ONC) announces the launch of the Managing Meds Video Challenge. This challenge is an open call for the public to create short, inspiring videos sharing how you use technology to manage your medications effectively or how health care providers or caregivers support individuals to take their medications as directed, improving patient health and safety.

This is the fourth in a series of Health IT video contests that will occur throughout 2012. The goal of this video contest series is to generate content that will be used to motivate and inspire others to leverage technology to better manage their health and be more engaged partners in their health and health care. Each challenge will be a call to action for members of the public to create a short video clip [2 minutes or less] on a particular theme, and will award cash prizes to winners in several categories.

DATES: Effective on August 9, 2012.

FOR FURTHER INFORMATION CONTACT: Erin Poetter, Consumer e-Health Policy Analyst, erin.poetter@hhs.gov, 202-205-3310.

SUPPLEMENTARY INFORMATION:

Subject of Challenge Competition

ONC's Managing Meds Video Challenge invites you to create short, inspiring videos sharing how you use technology to manage your medications effectively or support individuals to take their medications as directed, improving patient health and safety.

If you are a consumer or patient, you can participate by creating a video demonstrating how you can use technology for medication management. For example, you could describe:

• E-prescribing tools your provider uses to send your order directly to the pharmacy so it's ready when you arrive and to avoid potential medication errors from illegible handwriting on a paper script.

• Electronic tools such as mobile apps that help you keep track of the medications you are taking and when it's time to take them, or that notify you when it's time to refill a prescription so you don't run out of your meds.

• Emailing your provider in between visits to notify them you've stopped taking the medication that was prescribed because of side effects.

• Logging on to your provider's portal and viewing your list of medications on file and sending a request to update the list to reflect which meds you are no longer taking or may have been prescribed by another doctor.

If you are a health care provider, such as a doctor, nurse or pharmacist, you can also participate by demonstrating how you use health information technology (health IT), such as e-prescribing and electronic health record systems, to support prescribing patients the right medications and dosage, and to prevent drug-drug interactions.

Eligibility Rules for Participating in the Competition

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be an employee of the Office of the National Coordinator for Health Information Technology.

(7) Federal grantees may not use Federal funds to develop COMPETES Act challenge applications unless consistent with the purpose of their grant award.

(8) Federal contractors may not use Federal funds from a contract to develop COMPETES Act challenge applications or to fund efforts in support of a COMPETES Act challenge submission.

(9) May not be:

a. An employee of a commercial business whose name, brand name, product or other trademark is mentioned or featured in the Video, or

b. A contractor or employee of an affiliate, subsidiary, advertising agency, or any other company involved in marketing a commercial business, brand name, product or other trademark mentioned or featured in the Video.

All individual members of a team must meet the eligibility requirements.

An individual or entity shall not be deemed ineligible because the individual or entity used Federal facilities or consulted with Federal employees during a competition if the facilities and employees are made available to all individuals and entities participating in the competition on an equitable basis.

Registration Process for Participants

1. During the Challenge Submission Period, visit http://ManagingMeds.Challenge.gov and register (Registration is free) or log in with an existing ChallengePost account. After a Contestant signs up, a confirmation email will be sent to the email address provided. The Contestant must use the confirmation email to verify his or her email address. The registered Contestant will then be able to enter a Submission.

2. On http://ManagingMeds.Challenge.gov, click “Accept this challenge” to register your interest in participating. This step ensures that you will receive important challenge updates.

3. Create a video and ensure the following (please read the Official Rules on http://ManagingMeds.Challenge.gov for complete requirements):

a. Your video must demonstrate how technology can be used to help you take your meds as prescribed.

b. Your video encourages viewers to visit www.HealthIT.gov to learn more about using technology to improve your health.

c. Your video is no longer than 2 minutes.

4. Confirm that you have read and agreed to the Official Rules.

• The title of the Video;

• A link to the Video on YouTube.com or Vimeo.com (the Video should be no longer than 2 minutes);

• A text description of your use of health IT to improve medication management, and a transcript of the words spoken in the video;

• A transcript of the words spoken or sung in the video;

• Uploaded consent forms for everyone who appears in the video regardless of age.

All individuals that appear in a Video must complete and sign the Video Consent Form. If a minor appears in the Video, the minor's parent/legal guardian must also sign the Video Consent Form. A Submission will not be considered complete and eligible to win prizes without a completed Video Consent Form being uploaded from all individuals that appear in the Video. All completed Video Consent Forms must include a handwritten signature, and be scanned, combined in to a single file (ZIP, PDF, or doc), and uploaded on the submission form on BloodPressure.Challenge.gov.

Amount of the Prize
Winner | Prize | Quantity
First Prize | $3,000 | 1
Second Prize | 2,000 | 1
Third Prize | 1,000 | 1
Honorable Prize | 500 | 2
Popular Choice | 500 | 1

Basis Upon Which Winner Will Be Selected

Videos will be judged based on the following criteria (to be equally weighted):

1. Quality of the Idea (Includes elements such as the relevance and originality of your use of health IT).

2. Potential Impact on health IT adoption (Includes whether the video is compelling, instructive, and easy to follow so that others can perform similar activities using health technology).

The five (5) Contestants whose Submissions earn the highest overall score will win, respectively, the prizes identified below in Section 8. In the event of a tie, winners will be selected based on their score on the criteria described in (3), then (2), and then (1). If there is still a tie then the winner will be selected based on a vote by the judging panel.

Dated: August 3, 2012.
Erin Poetter,
Consumer e-Health Policy Analyst, Office of Consumer e-Health,Office of the National Coordinator for Health Information Technology (ONC), Office of the Secretary (OS).

[FR Doc. 2012-19775 Filed 8-10-12; 8:45 am]

BILLING CODE 4150-45-P